DEPARTMENT OF TRANSPORTATION

Federal Motor Carrier Safety Administration

[Docket No. FMCSA-2003-25290]

Commercial Driver's License (CDL) Standards; Isuzu Motors America, Inc. (Isuzu); Exemption Renewal

AGENCY: Federal Motor Carrier Safety Administration (FMCSA), DOT.

ACTION: Notice of final disposition.

SUMMARY: FMCSA previously announced its decision to renew Isuzu's exemption from the Agency's requirement that drivers of commercial motor vehicles (CMVs) possess a commercial driver's license (CDL) issued in the United States. Isuzu requested that its current exemption for 11 Japanese engineers and technicians be renewed to enable them to continue test driving CMVs in the U.S. FMCSA requested comment on the renewal of the exemption, but received no comments.

DATES: This exemption is effective from July 2, 2008 through July 2, 2010.

FOR FURTHER INFORMATION CONTACT: Mr. Robert F. Schultz, Jr., FMCSA Driver and Carrier Operations Division, Office of Bus and Truck Standards and Operations, Telephone: 202-366-4325, or e-mail: MCPSD@dot.gov.

SUPPLEMENTARY INFORMATION:

Background

Under 49 U.S.C. 31315, as referenced in section 31136(e), FMCSA may grant an exemption if it finds “such exemption would likely achieve a level of safety that is equivalent to, or greater than, the level that would be achieved absent such exemption.” Exemptions may be granted for up to 2 years from the approval date and may be renewed upon application (49 U.S.C. 31315(b)(1)). FMCSA has evaluated Isuzu's application for renewal on its merits and has granted renewal of the exemption for 11 of Isuzu's engineers and technicians for a 2-year period, effective July 2, 2008 as previously announced in the Federal Register (73 FR 38023, July 2, 2008).

Comments

The FMCSA received no response to its request for public comments published in the Federal Register on July 2, 2008 (73 FR 38023).

Terms and Conditions for the Exemption

Based upon its evaluation of the application for an exemption, FMCSA granted Isuzu a renewal of the exemption from the Federal CDL requirement in 49 CFR 383.23 for eleven drivers (Shiro Fukuda, Wataru Kumakura, Takehito Yaguchi, Tsutomu Yamazaki, Toshiya Asari, Shintaro Moroi, Masaru Otsu, Satoru Amemiya, Tsuyoshi Koyama, Nobuyuki Miyazaki, and Hiroyoshi Takahashi) to test-drive CMVs within the U.S., subject to the following terms and conditions: (1) That these drivers are subject to drug and alcohol testing regulations, including testing, as provided in 49 CFR part 382, (2) that these drivers are subject to the same driver disqualification rules under 49 CFR parts 383 and 391 that apply to other CMV drivers in the U.S., (3) that these drivers keep a copy of the exemption in the vehicle they are driving at all times, (4) that Isuzu notify FMCSA in writing of any accident, as defined in 49 CFR 390.5, involving one of the exempted drivers, and (5) that Isuzu notify FMCSA in writing if any driver is convicted of a disqualifying offense described in section 383.51 or 391.15 of the FMCSRs.

The exemption will be revoked if: (1) The drivers for Isuzu fail to comply with the terms and conditions of the exemption; (2) the exemption has resulted in a lower level of safety than was maintained before it was granted; or (3) continuation of the exemption would not be consistent with the goals and objectives of 49 U.S.C. 31315 and 31136.

Issued on August 29, 2008.
Larry W. Minor,
Associate Administrator for Policy and Program Development.

[FR Doc. E8-20668 Filed 9-5-08; 8:45 am]

BILLING CODE 4910-EX-P